DEPARTMENT OF ENERGY

Federal Energy Regulatory Commission

[Docket Nos. CP16-454-000; CP16-455-000]

Notice of Schedule for Environmental Review of the Rio Grande LNG, LLC and Rio Bravo Pipeline Company, LLC Rio Grande LNG Project

On May 5, 2016, Rio Grande LNG, LLC (RG LNG) filed an application in Docket No. CP16-454-000 requesting authorization pursuant to Section 3(a) of the Natural Gas Act (NGA) to construct and operate liquefied natural gas (LNG) export facilities. On the same day, Rio Bravo Pipeline Company, LLC (RB Pipeline) filed an application in Docket No. CP16-455-000, requesting a Certificate of Public Convenience and Necessity pursuant to Section 7(c) of the NGA to construct, operate, and maintain certain natural gas pipeline facilities. The combined projects, collectively referred to as the Rio Grande LNG Project, would provide gas and processing to produce up to 27 million tons per annum of LNG for export. On August 17, 2016, in Order No. 3869, the U.S. Department of Energy, Office of Fossil Energy, granted to RG LNG a long-term, multi-contract authorization to export LNG to Free Trade Agreement nations.

On May 19, 2016, the Federal Energy Regulatory Commission (FERC or Commission) issued its Notice of Application for the project. Among other things, that notice alerted other agencies issuing federal authorizations of the requirement to complete all necessary reviews and to reach a final decision on the request for a federal authorization within 90 days of the date of issuance of the Commission staff's final Environmental Impact Statement (EIS) for the Rio Grande LNG Project. This instant notice identifies the FERC staff's planned schedule for completion of the final EIS for the project, which is based on an issuance of the draft EIS in October 2018. The forecasted schedule for both the draft and final EIS is based upon RG LNG and RB Pipeline providing complete and timely responses to any future data requests. In addition, the schedule assumes that the cooperating agencies will provide input on their areas of responsibility on a timely basis.

Schedule for Environmental Review

Issuance of Notice of Availability of the final EIS—April 26, 2019

90-Day Federal Authorization Decision Deadline—July 25, 2019

If a schedule change becomes necessary for the final EIS, an additional notice will be provided so that the relevant agencies are kept informed of the project's progress.

Project Description

RG LNG and RB Pipeline, collectively the Rio Grande Developers (RG Developers), propose to construct and operate natural gas pipelines and liquefaction facilities in Jim Wells, Kleberg, Kenedy, Willacy, and Cameron Counties, Texas. The Rio Bravo Pipeline would include two new parallel 42-inch-diameter natural gas pipelines, each about 135.5 miles long, capable of transporting 4.5 billion cubic feet per day of natural gas. In addition, a 2.4-mile-long header system at the origin of the pipelines would interconnect with existing natural gas transmission pipelines. The pipeline facilities would include three new compressor stations in Kleberg, Kenedy, and Cameron Counties and two new interconnect booster stations in Kenedy County.

The Rio Grande LNG Terminal would be located on 750.4 acres of an approximately 1,000-acre site along the Brownsville Ship Channel about 5.5 miles inland from the channel entrance, in Cameron County, Texas. The terminal would include six liquefaction trains capable of producing 27 million tons per annum of LNG; marine facilities, including two LNG berths, a turning basin, and a material offloading facility; truck loading and unloading facilities for LNG and natural gas liquids; and four LNG storage tanks. If approved, RG Developers would construct the project in stages. Operation of the first liquefaction train, and one of the two parallel pipelines, is proposed to begin during the fourth quarter of 2021; operation of the full project is proposed for early 2025.

Background

On April 13, 2015, the Commission staff granted the RG Developers' request to use the FERC's Pre-filing environmental review process. On July 23, 2015, the Commission issued a Notice of Intent to Prepare an Environmental Impact Statement for the Planned Rio Grande LNG Project and Rio Bravo Pipeline Project, Request for Comments on Environmental Issues, and Notice of Public Scoping Meetings (NOI) in Docket No. PF15-20-000. The NOI was issued during the pre-filing review of the project, and was sent to federal, state, and local government agencies; elected officials; affected landowners; environmental and public interest groups; Native American tribes and regional organizations; commentors and other interested parties; and local libraries and newspapers. Major issues raised during scoping include impacts on wildlife and wildlife habitat (including threatened and endangered species), aquatic resources, surface water, wetlands, public lands, visual resources, local ecotourism, public health and safety, air and noise quality, and cumulative impacts.

The U.S Coast Guard, U.S. Department of Energy, U.S Department of Transportation, U.S. Environmental Protection Agency, U.S. Army Corps of Engineers, U.S. Fish and Wildlife Service, National Marine Fisheries Service, National Park Service, and Federal Aviation Administration are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the eLibrary link, select General Search from the eLibrary menu, enter the selected date range and Docket Number excluding the last three digits (i.e., CP16-454 or CP16-455), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19398 Filed 9-6-18; 8:45 am]

BILLING CODE 6717-01-P